DEPARTMENT OF AGRICULTURE

Forest Service

Uinta-Wasatch-Cache National Forest; Utah; Little Cottonwood Canyon Environmental Impact Statement

AGENCY: Forest Service, USDA.

ACTION: Notice.

SUMMARY: The Utah Department of Transportation (UDOT) has proposed transportation improvements in and near Little Cottonwood Canyon in Salt Lake City, Utah. Some activities for the proposed action and alternatives would occur on what are currently National Forest System (NFS) lands managed under the 2003 Wasatch-Cache National Forest plan (Forest Plan). This notice is to ensure all persons and entities interested in activities on NFS lands and the Uinta-Wasatch-Cache National Forest are aware of the March 9, 2018 Notice of Intent (NOI), March 5, 2019 Revised NOI, and May 15, 2019 Revised NOI published by the Federal Highway Administration (FHWA) on behalf of UDOT for preparation of an Environmental Impact Statement (EIS) for the proposed transportation improvements.

DATES: The Draft EIS is expected Summer 2021 and the Final EIS is expected Winter 2021/2022.

ADDRESSES: Additional information concerning this project may be obtained at https://littlecottonwoodeis.udot.utah.gov/.

Individuals who use telecommunication devices for the hearing-impaired (TDD) may call the Federal Information Relay Service (FIRS) at 1-800-877-8339 between 8 a.m. and 8 p.m., Eastern Daylight Time, Monday through Friday.

FOR FURTHER INFORMATION CONTACT:

Brandon Weston, Environmental Services Director, Environmental Services Division, UDOT 4501 South 2700 West, P.O. Box 141265, Salt Lake City, Utah 84114-1265; Telephone: (801) 965-4603, email: brandonweston@utah.gov.

Josh Van Jura, P.E., Little Cottonwood Canyon Project Manager, UDOT 4501 South 2700 West, P.O. Box 141265, Salt Lake City, Utah 84114-1265; Telephone: (801) 231-8452, Email: jvanjura@utah.gov.

SUPPLEMENTARY INFORMATION: The FHWA, on behalf of UDOT, published a March 9, 2018 NOI, March 5, 2019 Revised NOI, and a May 15, 2019 Revised NOI (83 FR 10545, 84 FR 7967, 84 FR 21894, respectively) for the preparation of an Environmental Impact Statement for proposed transportation improvements in and near Little Cottonwood Canyon in Salt Lake City, Utah. As stated in all three NOIs, the project may require FHWA to appropriate NFS lands and transfer such lands to the UDOT, which would be in the form of a non-exclusive right-of-way for highway purposes. UDOT will make a decision for project activities on lands that will be appropriated by FHWA at the time of implementation of those activities. A Forest Service decision will apply to project activities, if any, that occur on NFS lands that are not appropriated by FHWA at the time of implementation of those activities. The Forest Service decision may amend the 2003 Wasatch-Cache Forest Plan: If analysis leads the Forest Service to conclude that an amendment is necessary and appropriate. UDOT will prepare a single EIS to satisfy National Environmental Policy Act (NEPA) requirements for the Forest Service and UDOT. The Forest Service intends to use the EIS to make its decision for the NFS lands it administers.

Lead and Cooperating Agencies

UDOT is the Lead Agency for the preparation of the EIS acting under authority of 23 United States Code Section 327, and a Memorandum of Understanding executed by the FHWA and UDOT on January 17, 2017 . The Forest Service is a Cooperating Agency for the preparation of the EIS. Other Cooperating Agencies include the U.S. Environmental Protection Agency, U.S. Army Corps of Engineers, Utah Transit Authority, and the Salt Lake City Department of Public Utilities.

Responsible Official

The Forest Service responsible official is the Uinta-Wasatch-Cache Forest Supervisor.

Nature of Decision To Be Made

The Forest Service may need to make a decision to authorize use of NFS land outside the right-of-way to be appropriated by FHWA and to amend the Forest Plan for that use if it is inconsistent with the current Forest Plan. It is anticipated the draft EIS will identify any Forest Service decision that may be required. This notice does not commit the Forest Service to amending the Forest Plan. This notice does not preclude the Forest Service from changing the Forest Plan through administrative change, if appropriate. Any Forest Service decision on project and site-specific activities must be supported by NEPA analysis sufficient to meet Forest Service requirements. In the event the Forest Service determines a Forest Plan amendment is necessary, we hereby give notice that substantive requirements of the 2012 Planning Rule (36 CFR 219) likely to be directly related and, therefore, applicable to the Forest Plan amendment are 36 CFR 219.10(a)(1) and (3), scenery and transportation corridor. The plan amendment would be project-specific, with a scope and scale of only the project activities occurring on NFS lands and only for the NFS lands occurring within the project area.

Administrative Review

The Forest Service decision on project activities and, if needed, plan amendment will use the 36 CFR 218 pre-decisional objection review process (using applicable sub-parts A and B).

Tina J. Terrell,
Acting Deputy Chief, National Forest System.

[FR Doc. 2021-08441 Filed 4-22-21; 8:45 am]

BILLING CODE 3411-15-P